DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: State Opioid Response (SOR) and Tribal Opioid Response (TOR) Program Data Collection and Performance Measurement—NEW

The Substance Abuse and Mental Health Services Administration's (SAMHSA) Center for Substance Abuse Treatment (CSAT) is requesting approval from the Office of Management and Budget (OMB) for data collection activities associated with the State Opioid Response (SOR) and Tribal Opioid Response (TOR) discretionary grant programs. Approval of this information collection will allow SAMHSA to continue to meet the Government Performance and Results Modernization Act of 2010 (GPRMA) reporting requirements that quantify the effects and accomplishments of its discretionary grant programs which are consistent with OMB guidance. Information collected through this request will be used to monitor performance throughout the grant period.

There will be up to 359 award recipients (states, territories, and tribal entities) in these grant programs. Grantee-level data will include information related to naloxone purchases and distribution. This grantee-level information will be collected quarterly.

All funded states/territories and tribal entities will also be required to collect and report client-level data on individuals who are receiving opioid treatment and/or recovery services to ensure program goals and objectives are being met. Client-level data will include information such as: Demographic information, services planned/received, mental health/substance use disorder diagnoses, medical status, employment status, substance use, legal status, and psychiatric status/symptoms. Client-level data will be collected at intake/baseline, three months post intake, six months post intake, and at discharge.

CSAT anticipates that the time required to collect and report the grantee-level information is approximately 10 minutes per response, and the time required to collect and report the client-level data is approximately 47 minutes per response. CSAT's estimate of the burden associated with the client-level instrument includes an adjustment for data elements that are currently being collected by entities that are likely to be funded by the SOR/TOR grant programs.

Table 1—Estimate of Annualized Hour Burden for SOR/TOR Grantees
SAMHSA data collection | Number of respondents | Responses per respondent | Total number of responses | Burden hours per response | Total burden hours
Grantee-Level Instrument | 359 | 4 | 1,436 | .17 | 244
Client Level Instrument: Baseline Interview | 165,000 | 1 | 165,000 | .78 | 128,700
Client-Level Instrument: Follow-up Interview ¹ | 132,000 | 2 | 264,000 | .78 | 205,920
Client-Level Instrument: Discharge Interview ² | 85,800 | 1 | 85,800 | .78 | 66,924
CSAT Total | 165,359 |  | 516,236 |  | 401,788
Notes:
¹ It is estimated that 80% of baseline clients will complete the three month and six month follow-up interviews.
² It is estimated that 52% of baseline clients will complete this interview.

Written comments and recommendations concerning the proposed information collection should be sent by January 9, 2019 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2018-26659 Filed 12-7-18; 8:45 am]

BILLING CODE 4162-20-P